DEPARTMENT OF JUSTICE

Notice of Lodging of Consent Decree Pursuant to the Clean Air Act

Notice is hereby given that a consent decree in United States v. Stone Container Corporation, Civil Action No. 3:04CV552 (REP) (E.D.Va.) was lodged with the court on August 5, 2004.

The proposed decree resolves the claims of the United States and intervener Virginia Department of Environmental Quality against Stone Container Corporation under the Clean Air Act, 42 U.S.C. 7401, et seq., for civil penalties and injunctive relief to redress violations occurring at Stone's Hopewell, Virginia Kraft Pulp Paper Mill. Under the decree, Stone is required to pay a civil penalty of $835,000. Stone has remedied the violations at issue.

The Department of Justice will receive, for a period of thirty (30) days from the date of this publication, comments relating to the proposed consent decree. Comments should be addressed to the Assistant Attorney General for the Environment and Natural Resources Division, Department of Justice, Washington, DC 20530, and should refer to United States v. Stone Container Corporation, Civil Action No. 3:04CV552 (REP) (E.D.Va.), DOJ Ref. #90-5-2-1-06526.

The consent decree may be examined at the Office of the United States Attorney, Jamieson Avenue, Alexandria, VA 22314 and at U.S. EPA Region III, 1650 Arch Street, Philadelphia, PA 19103. During the public comment period, the consent decree, may also be examined on the following Department of Justice Web site, http://www.usdoj.gov/enrd/open.html. During the public comment period, a copy of the consent decree may also be obtained by mail from the Consent Decree Library, P.O. Box 7611, U.S. Department of Justice, Washington, DC 20044-7611 or by faxing or e-mailing a request to Tonia Fleetwood (tonia.fleetwood@usdoj.gov), fax number (202) 514-0097, phone confirmation number (202) 514-1547. In requesting a copy from the Consent Decree Library, please enclose a check in the amount of $5,00 (25 cents per page reproduction cost) payable to the U.S. Treasury.

Robert Brook,
Assistant Chief, Environmental Enforcement Section, Environment and Natural Resources Division.

[FR Doc. 04-18941 Filed 8-17-04; 8:45 am]

BILLING CODE 4410-15-M